DEPARTMENT OF COMMERCE

Submission for OMB Review; Comment Request

The Department of Commerce will submit to the Office of Management and Budget (OMB) for clearance the following proposal for collection of information under the provisions of the Paperwork Reduction Act.

Agency: U.S. Census Bureau.

Title: Service Annual Survey.

OMB Control Number: 0607-0422.

Form Number(s): SA-22010A—SA-81300E (180 forms total).

Type of Request: Revision of a currently approved collection.

Number of Respondents: 91,401.

Average Hours per Response: 1 hour and 32 minutes.

Burden Hours: 139,889.

Needs and Uses: Over 50 percent of all economic activity is generated by businesses in the services sectors, defined to exclude retail and wholesale trade. The U.S. Census Bureau currently measures the total output of most of the service industries annually in the Service Annual Survey (SAS). This survey currently covers all or portions of: Utilities; Transportation and Warehousing; Information; Finance and Insurance; Real Estate and Rental and Leasing; Professional, Scientific, and Technical Services; Administrative and Support and Waste Management and Remediation Services; Educational Services; Health Care and Social Assistance; Arts, Entertainment, and Recreation; Accommodation and Food Services; and Other Services (except Public Administration) as defined by the North American Industry Classification System (NAICS). The SAS provides the only official source of annual revenue estimates for the service industries.

Estimates from the SAS are essential to measurement of economic growth, real output, prices, and productivity for our nation's economy. A broad spectrum of government and private stakeholders use these estimates in analyzing economic activity; forecasting economic growth; and compiling data on productivity, prices and the gross domestic product (GDP). In addition, trade and professional organizations use these estimates to analyze industry trends, benchmark their own statistical products and develop forecasts. Private businesses use these estimates to measure market share, analyze business potential, and plan investments.

Collected data include operating revenue for both taxable and tax-exempt firms and organizations, sources of revenue and expenses by type for selected industries, operating expenses, and selected industry-specific items. In addition, e-commerce data is collected for all industries, and export and inventory data is collected for selected industries. The availability of these data greatly improves the quality of the intermediate inputs and value-added estimates in the annual input-output and GDP by industry accounts produced by the Bureau of Economic Analysis (BEA).

Beginning in survey year 2018, the operating expenses portion of the questionnaire will be condensed substantially in non-Economic Census reference years. This change will relieve respondent burden with the goal of improving the rate and quality of survey response.

The Census Bureau will also begin measuring telemedicine. The use of telemedicine by mental health professionals is increasing as the nation's behavioral health is a huge concern, especially with the current opioid crisis. With increased insurance coverage for the cost of these services, it is likely that more healthcare professionals will begin delivering services via telemedicine. This question will provide the first federal data on the new business model of telemedicine for outpatient medical providers. It will be an expansion of the current patient visits question, and will appear on forms SA-62000A/E, SA-62150A/E, and SA-62190A/E (total of 6 forms). The question will be subject to cognitive testing, modified based on results if necessary, and implemented when it has cleared testing. Cognitive testing will be conducted under the Census Bureau's generic clearance for questionnaire pretesting research.

In addition, a new form will be created (SA-52413 A/E) for reinsurance carriers featuring a new variation of the existing “Direct Losses Incurred” question (Item 13). This change will increase clarity for respondents and reduce reporting error.

Minor changes will also be made to various forms to increase clarity of what is being asked of respondents (e.g., improving instructions or removing parts of a question), improve the quality of data the Census Bureau receives, and further reduce respondent burden.

Affected Public: Business or other for-profit; Not-for-profit institutions; Federal government.

Frequency: Annually.

Respondent's Obligation: Mandatory.

Legal Authority: Title 13, United States Code, Sections 131 and 182 authorize the collection. Sections 224 and 225 make reporting mandatory.

This information collection request may be viewed at www.reginfo.gov. Follow the instructions to view Department of Commerce collections currently under review by OMB.

Written comments and recommendations for the proposed information collection should be sent within 30 days of publication of this notice to OIRA_Submission@omb.eop.gov or fax to (202) 395-5806.

Sheleen Dumas,
Departmental Lead PRA Officer, Office of the Chief Information Officer.

[FR Doc. 2018-16409 Filed 7-31-18; 8:45 am]

BILLING CODE 3510-07-P